SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1-28, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f)

1. Chesapeake Appalachia, L.L.C.; Pad ID: Samantha; ABR-201501006.R1; Forkston Township, Wyoming County, Pa.; Consumptive Use of Up to 7.5000 mgd; Approval Date: February 2, 2022.

2. Pennsylvania General Energy Company, L.L.C.; Pad ID: Huckleberry Pad C; ABR-202202001; Union Township, Tioga County, Pa.; Consumptive Use of Up to 4.5000 mgd; Approval Date: February 8, 2022.

3. Chesapeake Appalachia, L.L.C.; Pad ID: Dan Ellis; ABR-20100210.R2; Monroe Township, Bradford County, Pa.; Consumptive Use of Up to 7.5000 mgd; Approval Date: February 16, 2022.

4. Seneca Resources Company, LLC; Pad ID: McClure 527; ABR-201001043.R2; Rutland Township, Tioga County, Pa.; Consumptive Use of Up to 4.0000 mgd; Approval Date: February 16, 2022.

5. EXCO Resources (PA), LLC; Pad ID: Edkin Hill Unit; ABR-201412004.R1; Shrewsbury Township, Sullivan County, Pa.; Consumptive Use of Up to 2.0000 mgd; Approval Date: February 16, 2022.

6. SWN Production Company, LLC.; Pad ID: MacGeorge Well Pad; ABR-201202011.R2; Silver Lake Township, Susquehanna County, Pa.; Consumptive Use of Up to 4.9990 mgd; Approval Date: February 16, 2022.

7. Chief Oil & Gas, LLC; Pad ID: Wright A Drilling Pad #1; ABR-201202004.R2; Canton Township, Bradford County, Pa.; Consumptive Use of Up to 2.0000 mgd; Approval Date: February 18, 2022.

8. Chief Oil & Gas, LLC; Pad ID: L & L Construction A Drilling Pad #1; ABR-201202014.R2; Overton Township, Bradford County, Pa.; Consumptive Use of Up to 2.0000 mgd; Approval Date: February 18, 2022.

9. Repsol Oil & Gas USA, LLC; Pad ID: HEMLOCK VALLEY (05 265); ABR-201201035.R2; Pike Township, Bradford County, Pa.; Consumptive Use of Up to 6.0000 mgd; Approval Date: February 18, 2022.

10. Coterra Energy Inc.; Pad ID: FoltzJ P2; ABR-201702003.R1; Brooklyn Township, Susquehanna County, Pa.; Consumptive Use of Up to 5.0000 mgd; Approval Date: February 18, 2022.

11. BKV Operating, LLC; Pad ID: Trecoske North Pad; ABR-201201023.R2; Silver Spring Township, Susquehanna County, Pa.; Consumptive Use of Up to 5.0000 mgd; Approval Date: February 23, 2022.

12. Repsol Oil & Gas USA, LLC; Pad ID: DCNR 587 (02 009); ABR-20100220.R2; Ward Township, Tioga County, Pa.; Consumptive Use of Up to 6.0000 mgd; Approval Date: February 23, 2022.

13. Diversified Oil & Gas, LLC; Pad ID: Rhodes Well Pad; ABR-201201018.R2; Gamble Township, Lycoming County, Pa.; Consumptive Use of Up to 3.6000 mgd; Approval Date: February 23, 2022.

14. SWN Production Company, LLC; Pad ID: TONYA WEST; ABR-201201026R2; New Milford Township, Susquehanna County, Pa.; Consumptive Use of Up to 4.9990 mgd; Approval Date: February 23, 2022.

15. Chesapeake Appalachia, L.L.C.; Pad ID: Welles 5; ABR-20100217.R2; Terry Township, Bradford County, Pa.; Consumptive Use of Up to 7.5000 mgd; Approval Date: February 24, 2022.

16. EQT ARO LLC; Pad ID: Mallory Group Pad A; ABR-202202002; Plunketts Creek Township, Lycoming County, Pa.; Consumptive Use of Up to 4.0000 mgd; Approval Date: February 28, 2022.

17. Seneca Resources Company, LLC; Pad ID: Sharretts 805; ABR-201001043.R2; Clymer Township, Tioga County, Pa.; Consumptive Use of Up to 4.0000 mgd; Approval Date: February 28, 2022.

18. Seneca Resources Company, LLC; Pad ID: Burt 518; ABR-20100221.R2; Richmond Township, Tioga County, Pa.; Consumptive Use of Up to 4.0000 mgd; Approval Date: February 28, 2022.

19. Coterra Energy Inc.; Pad ID: BerryD P1; ABR-20100215.R2; Dimock Township, Susquehanna County, Pa.; Consumptive Use of Up to 5.0000 mgd; Approval Date: February 28, 2022.

20. Coterra Energy Inc.; Pad ID: RussoB P1; ABR-20100231.R1; Springville Township, Susquehanna County, Pa.; Consumptive Use of Up to 5.0000 mgd; Approval Date: February 28, 2022.

21. Repsol Oil & Gas USA, LLC; Pad ID: LONGNECKER(03 008) G; ABR-20100223.R2; Columbia Township, Bradford County, Pa.; Consumptive Use of Up to 6.0000 mgd; Approval Date: February 28, 2022.

22. Repsol Oil & Gas USA, LLC; Pad ID: BOOR (03 015) J; ABR-20100232.R2; Columbia Township, Bradford County, Pa.; Consumptive Use of Up to 6.0000 mgd; Approval Date: February 28, 2022.

23. Range Resources—Appalachia, LLC; Pad ID: Bobst Mtn Hunting Club 30H-33H; ABR-201202017.R2; Cogan House Township, Lycoming County, Pa.; Consumptive Use of Up to 4.0000 mgd; Approval Date: February 28, 2022.

Authority: Public Law 91-575, 84 Stat. 1509 et seq., 18 CFR parts 806 and 808.

Dated: March 9, 2022.
Jason E. Oyler,
General Counsel and Secretary to the Commission.

[FR Doc. 2022-05366 Filed 3-14-22; 8:45 am]

BILLING CODE 7040-01-P